DEPARTMENT OF COMMERCE

National Oceanic and Atmospheric Administration

[RTID 0648-XF299]

South Atlantic Fishery Management Council; Public Meeting

AGENCY: National Marine Fisheries Service (NMFS), National Oceanic and Atmospheric Administration (NOAA), Commerce.

ACTION: Meeting of the South Atlantic Fishery Management Council.

SUMMARY: The South Atlantic Fishery Management Council (Council) will hold meetings of the following: Snapper Grouper Commercial Sub-Committee; Citizen Science Committee; Snapper Grouper Committee, and Joint Habitat & Ecosystem and Shrimp Committee. The meeting week will also include a formal public comment session, a Closed Session meeting of the Full Council, and meetings of the Full Council.

DATES: The Council meeting will be held from 10:45 a.m. on Monday, December 8, 2025, until 12 p.m. on Friday, December 12, 2025.

ADDRESSES:

Meeting address: The meeting will be held at the Hilton Garden Inn Outer Banks/Kitty Hawk, 5353 N Virginia Dare Trail; Kitty Hawk, NC 27949; phone (252) 261-1290. The meeting will also be available via webinar. See SUPPLEMENTARY INFORMATION.

FOR FURTHER INFORMATION CONTACT: Kim Iverson, Public Information Officer, SAFMC; phone 843/302-8440 or toll free 866/SAFMC-10; FAX 843/769-4520; email: kim.iverson@safmc.net.

SUPPLEMENTARY INFORMATION: Meeting information, including agendas, overviews, and briefing book materials will be posted on the Council's website at: https://safmc.net/council-meetings/. Webinar registration links for the meeting will also be available from the Council's website.

Public comment: Public comment on agenda items may be submitted through the Council's online comment form available from the Council's website at: https://safmc.net/events/december-2025-council-meeting/. Written comments will be accepted from November 21, 2025, until December 12, 2025. These comments are accessible to the public, part of the Administrative Record of the meeting, and immediately available for Council consideration. A formal public comment session will also be held during the Council meeting.

The items of discussion in the individual meeting agendas are as follows:

Snapper Grouper Commercial Sub-Committee, Monday, December 8, 2025, 10:45 a.m. Until 12 p.m.

The Snapper Grouper Commercial Sub-Committee will review management measures proposed in Amendment 60 to the Snapper Grouper Fishery Management Plan to address permits and trip efficiency in the commercial fishery.

Council Session I, Monday, December 8, 2025, 1:30 p.m. Until 5 p.m. (CLOSED SESSION)

The Council will meet in closed session to consider applications for open advisory panel seats, appointments relative to the Southeast, Data, Assessment, and Review Program, and discuss optimizing membership of the Scientific and Statistical Committee (SSC) and the Social and Economic Panel and filling a NC state seat on the SSC. The Council will also conduct its annual review of the Executive Director.

Citizen Science Committee, Tuesday, December 9, 2025, 8:30 a.m. Until 10:30 a.m.

The Citizen Science Committee will receive an update and consider adoption of updated research priorities for the Council's Citizen Science Program, provide input on indicators the program should regularly monitor, consider the program's organizational structure, and receive a Citizen Science Projects update.

Full Council Session 1, Tuesday, December 9, 2025, 10:45 a.m. Until 5 p.m.

The Council will receive a litigation brief and receive reports from law enforcement, Council staff, Council liaisons, state agencies, Lines of Communication meetings held in Georgia in November 2025, and the National Marine Fisheries Service (NMFS). The Council is also scheduled to receive a presentation on revisions to the Marine Recreational Information Program's Fishing Effort Survey, and presentations from NMFS' Southeast Regional Office (SERO) on updates to the Permitting System and one-stop reporting for Federal permit holders.

Snapper Grouper Committee, Wednesday, December 10, 2025, 8:30 a.m. Until 3:45 p.m. and Thursday, December 11, 2025, 8:30 a.m. Until 3:45 p.m.

The Committee will receive an update on rule making from NMFS SERO, an Exempted Fishing Permit (EFP) applications briefing for applications not pertaining to state management of red snapper, and a Stock Assessment and Fishery Evaluation (SAFE) Report update. The Committee will also receive updates on state management of red snapper, including EFP requests from each state and Year 1 of the Florida Fish and Wildlife Conservation Commission's Red Snapper EFP Program. The Committee will also receive a briefing on the South Atlantic Red Snapper Research Program.

The Committee will review public hearing comments relative to management measures proposed for black sea bass in Regulatory Amendment 37 to the Snapper Grouper Fishery Management Plan (FMP) and consider final approval for Secretarial Review. The Committee will review advisory panel recommendations for Abbreviated Framework 5 to the Snapper Grouper FMP addressing catch levels for blueline tilefish and consider approval for Secretarial Review, as well as advisory panel recommendations for Amendment 61 addressing revisions to the Snapper Grouper Fishery Management Unit and Amendment 44 addressing management measures for Yellowtail Snapper and Mutton Snapper. The Committee will review SSC recommendations on the Management Strategy Evaluation (MSE) for the Snapper Grouper Fishery, receive an update on the development of the MSE, and an update on an MSE for the wreckfish fishery.

The Committee will receive a presentation on a revised assessment for golden tilefish, consider recommendations from its SSC, and consider resuming work on Abbreviated Framework Amendment 4 to adjust catch levels for golden tilefish. The Committee will receive recommendations from the SSC on items not on the agenda, discuss goalposts and principles for an Innovation Plan for the Snapper Grouper Fishery and determine next steps.

Wednesday, December 10, 2025, 4 p.m.

Public comment will be accepted from individuals attending the meeting in person and via webinar on all items on the Council meeting agenda. The Council Chair will determine the amount of time provided to each commenter based on the number of individuals wishing to comment.

Joint Habitat & Ecosystem and Shrimp Committees, Thursday, December 11, 2025, 4 p.m. Until 5 p.m.

The Committees will receive an overview of a draft comprehensive amendment (Coral Amendment 11 and Shrimp Amendment 12) addressing a shrimp access area along the Oculina Bank Habitat Area of Particular Concern and consider final approval for Secretarial Review.

Council Session II, Friday, December 12, 2025, 8:30 a.m. Until 12 p.m.

The Council will receive Committee reports, review the Council Workplan and upcoming meetings, and discuss any other business as needed.

Documents regarding these issues are available from the Council office (see ADDRESSES).

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 5 days prior to the meeting.

Note: The times and sequence specified in this agenda are subject to change.

Authority: 16 U.S.C. 1801 et seq.

Dated: November 13, 2025.
Rey Israel Marquez,
Acting Deputy Director, Office of Sustainable Fisheries, National Marine Fisheries Service.

[FR Doc. 2025-20048 Filed 11-17-25; 8:45 am]

BILLING CODE 3510-22-P